DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: U.S. Census—Age Search.

Form Number(s): BC-600, BC-649(L), BC-658(L).

Agency Approval Number: 0607-0117.

Type of Request: Extension of a currently approved collection.

Burden: 1,775 hours.

Number of Respondents: 6,650.

Avg Hours Per Response: 9.5 minutes.

Needs and Uses: The Census Bureau maintains the 1910-1990 Federal censuses for searching purposes. Census 2000 records may be available for searching purposes at some point during the upcoming clearance period. Pursuant to Title 15 CFR Part 80, the Census Bureau will provide upon request and payment of established fees, transcripts of personal data from historical population census records. Information relating to age, place of birth, and citizenship is provided to individuals for their use in qualifying for social security, old age benefits, retirement, and passports, and for use in court litigation, insurance settlements, etc. The census records are confidential by an Act of Congress. The Census Bureau is prohibited by federal laws from disclosing any information contained in the records except upon written request from the person to whom the information pertains or to a legal representative. The age and citizenship searching service provided by the Census Bureau is a self-supporting operation. Expenses incurred in providing census transcripts are covered by the fees paid by individuals requesting a search of the census records.

This request is for extension of the public use forms currently used in searching census records. The Age Search forms gather information necessary for the Census Bureau to make a search of its historical population census records in order to provide the requested transcript.

Affected Public: Individuals or households.

Frequency: On occasion.

Respondent's Obligation: Required to obtain or retain benefits.

Legal Authority: Title 13 U.S.C., Section 8.

OMB Desk Officer: Susan Schechter, (202) 395-5103.

Copies of the above information collection proposal can be obtained by calling or writing Madeleine Clayton, Departmental Paperwork Clearance Officer, (202)482-3129, Department of Commerce, room 6086, 14th and Constitution Avenue, NW., Washington, DC 20230 (or via the Internet at mclayton@doc.gov).

Written comments and recommendations for the proposed information collection should be sent within 30 days of publication of this notice to Susan Schechter, OMB Desk Officer, room 10201, New Executive Office Building, Washington, DC 20503.

Dated: May 10, 2001.
Madeleine Clayton,
Departmental Paperwork Clearance Officer, Office of the Chief Information Officer.

[FR Doc. 01-12166 Filed 5-14-01; 8:45 am]

BILLING CODE 3510-07-P